DEPARTMENT OF ENERGY

Federal Energy Regulatory Commission

Combined Notice of Filings #1

Take notice that the Commission received the following electric corporate filings:

Docket Numbers: EC24-21-000.

Applicants: TotalEnergies Flexible Power USA, LLC, TexGen Power, LLC.

Description: Joint Application for Authorization Under Section 203 of the Federal Power Act of TotalEnergies Flexible Power USA, LLC, et. al.

Filed Date: 12/4/23.

Accession Number: 20231204-5280.

Comment Date: 5 p.m. ET 12/26/23.

Take notice that the Commission received the following electric rate filings:

Docket Numbers: ER24-86-000.

Applicants: EFS Parlin Holdings, LLC.

Description: Supplement to October 12, 2023 EFS Parlin Holdings, LLC tariff filing.

Filed Date: 11/30/23.

Accession Number: 20231130-5353.

Comment Date: 5 p.m. ET 12/21/23.

Docket Numbers: ER24-228-002.

Applicants: South Cheyenne Solar, LLC.

Description: Tariff Amendment: Revision of Proposed Market-Based Rate Tariff to be effective 12/1/2023.

Filed Date: 12/1/23.

Accession Number: 20231201-5248.

Comment Date: 5 pm ET 12/11/23.

Docket Numbers: ER24-537-000.

Applicants: Southwestern Public Service Company

Description: Petition for Limited Waiver of Southwestern Public Service Company.

Filed Date: 12/4/23.

Accession Number: 20231204-5142.

Comment Date: 5 pm ET 12/18/23.

Docket Numbers: ER24-543-000.

Applicants: PJM Interconnection, L.L.C.

Description: § 205(d) Rate Filing: Amendment to 10 Service Agreements re: FirstEnergy Reorganization to be effective 12/31/9998.

Filed Date: 12/4/23.

Accession Number: 20231204-5212.

Comment Date: 5 pm ET 12/26/23.

Docket Numbers: ER24-544-000.

Applicants: Robin Hollow Solar Lessee, LLC.

Description: Tariff Amendment: Notice of MBR Cancellation to be effective 12/5/2023.

Filed Date: 12/4/23.

Accession Number: 20231204-5223.

Comment Date: 5 pm ET 12/26/23.

Docket Numbers: ER24-545-000.

Applicants: American Electric Power Service Corporation, Appalachian Power Company.

Description: Petition for Limited Waiver of Appalachian Power Company.

Filed Date: 12/4/23.

Accession Number: 20231204-5283.

Comment Date: 5 pm ET 12/26/23.

Docket Numbers: ER24-546-000.

Applicants: Virginia Electric and Power Company, PJM Interconnection, L.L.C.

Description: § 205(d) Rate Filing: Virginia Electric and Power Company submits tariff filing per 35.13(a)(2)(iii: VEPCO submits One WDSA, SA No. 7136 to be effective 11/6/2023.

Filed Date: 12/5/23.

Accession Number: 20231205-5045.

Comment Date: 5 pm ET 12/26/23.

Docket Numbers: ER24-547-000.

Applicants: Southwest Power Pool, Inc.

Description: § 205(d) Rate Filing: Revisions to Modify Operating Tolerances for Uninstructued Resource Deviation to be effective 12/31/9998.

Filed Date: 12/5/23.

Accession Number: 20231205-5071.

Comment Date: 5 pm ET 12/26/23.

Docket Numbers: ER24-548-000.

Applicants: Dow Hydrocarbons and Resources LLC.

Description: Baseline eTariff Filing: Petition for Approval of Initial Market-Based Rate Tariff to be effective 2/4/2024.

Filed Date: 12/5/23.

Accession Number: 20231205-5078.

Comment Date: 5 pm ET 12/26/23.

Docket Numbers: ER24-549-000.

Applicants: Santa Rosa Energy Center, LLC.

Description: § 205(d) Rate Filing: Market-Based Rate Tariff Revisions to be effective 12/6/2023.

Filed Date: 12/5/23.

Accession Number: 20231205-5102.

Comment Date: 5 pm ET 12/26/23.

Docket Numbers: ER24-550-000.

Applicants: Arizona Public Service Company.

Description: § 205(d) Rate Filing: Rate Schedule No. 292, Amendment No. 1 to be effective 2/4/2024.

Filed Date: 12/5/23.

Accession Number: 20231205-5125.

Comment Date: 5 pm ET 12/26/23.

Docket Numbers: ER24-551-000.

Applicants: Elkhart County Solar Project, LLC.

Description: Baseline eTariff Filing: Market-Based Rate Application to be effective 2/4/2024.

Filed Date: 12/5/23.

Accession Number: 20231205-5133.

Comment Date: 5 pm ET 12/26/23.

Docket Numbers: ER24-552-000.

Applicants: Martin County II Solar Project, LLC.

Description: Baseline eTariff Filing: Market-Based Rate Application to be effective 2/4/2024.

Filed Date: 12/5/23.

Accession Number: 20231205-5135.

Comment Date: 5 pm ET 12/26/23.

Docket Numbers: ER24-553-000.

Applicants: Martin County Solar Project, LLC.

Description: Baseline eTariff Filing: Market-Based Rate Application to be effective 2/4/2024.

Filed Date: 12/5/23.

Accession Number: 20231205-5136.

Comment Date: 5 pm ET 12/26/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 5, 2023.
Kimberly D. Bose,
Secretary.

[FR Doc. 2023-27230 Filed 12-11-23; 8:45 am]

BILLING CODE 6717-01-P